DEPARTMENT OF JUSTICE

Drug Enforcement Administration

Importer of Controlled Substances; Notice of Registration

By Notice dated December 1, 2009, and published in the Federal Register on December 11, 2009 (74 FR 65788), Tocris Cookson Inc., 16144 Westwoods Business Park, Ellisville, Missouri 63021-4500, made application by renewal to the Drug Enforcement Administration (DEA) to be registered as an importer of the basic classes of controlled substances listed in schedules I and II:

Drug | Schedule
Marihuana (7360) | I
Tetrahydrocannabinols (7370) | I
4-Bromo-2,5-dimethoxyamphetamine (7391) | I
3,4-Methylenedioxymethamphetamine (7405) | I
Amphetamine (1100) | II
Phencyclidine (7471) | II
Cocaine (9041) | II
Diprenorphine (9058) | II
Fentanyl (9801) | II

The company plans to import small quantities of the above listed controlled substances for non-clinical, laboratory-based research only.

In reference to drug code 7360 (Marihuana), the company plans to import synthetic cannabinoid agonists. In reference to drug code 7370 (Tetrahydrocannabinols), the company will import a synthetic Delta-9-THC. No other activity for these drug codes is authorized for this registration.

No comments or objections have been received. DEA has considered the factors in 21 U.S.C. 823(a) and 952(a), and determined that the registration of Tocris Cookson Inc. to import the basic classes of controlled substances is consistent with the public interest, and with United States obligations under international treaties, conventions, or protocols in effect on May 1, 1971, at this time. DEA has investigated Tocris Cookson Inc. to ensure that the company's registration is consistent with the public interest. The investigation has included inspection and testing of the company's physical security systems, verification of the company's compliance with state and local laws, and a review of the company's background and history. Therefore, pursuant to 21 U.S.C. 952(a) and 958(a), and in accordance with 21 CFR 1301.34, the above named company is granted registration as an importer of the basic classes of controlled substances listed.

Dated: March 16, 2010.
Joseph T. Rannazzisi,
Deputy Assistant Administrator, Office of Diversion Control, Drug Enforcement Administration.

[FR Doc. 2010-6417 Filed 3-23-10; 8:45 am]

BILLING CODE 4410-09-P